DEPARTMENT OF THE TREASURY

Submission for OMB Review; Comment Request

February 28, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 8, 2002 to be assured of consideration.

Internal Revenue Service

OMB Number: 1545-1765.

Regulation Project Number: REG-119436-01 NPRM and Temporary.

Type of Review: Extension.

Title: New Markets Tax Credit.

Description: The regulations provide guidance for taxpayers claiming the new markets tax credit under section 45D of the Internal Revenue Code. The reporting requirements in the regulations require a qualified community development entity (CDE) to provide written notice to: (1) Any taxpayer who acquires an equity investment in the CDE at its original issue that the equity investment is a qualified equity investment entitling the taxpayer to claim the new markets tax credit; and

(2) each holder of a qualified equity investment, including all prior holders of that investment, that a recapture even has occurred. CDEs must comply with such reporting requirements to the Secretary as the Secretary may prescribe.

Respondents: Business or other for-profit, Not-for-profit institution.

Estimated Number of Respondents/Recordkeepers: 151.

Estimated Burden Hours Per Respondents/Recordkeepers: 2 hours, 30 minutes.

Frequency of Response: Annually.

Estimated Total Reporting/Recordkeeping Burden: 378 hours.

Clearance Officer: George Freeland, Internal Revenue Service, Room 5577, 1111 Constitution Avenue, NW., Washington, DC 20224.

OMB Reviewer: Alexander T. Hunt (202) 395-7860, Office of Management and Budget, Room 10202, New Executive Office Building, Washington, DC 20503.

Mary A. Able,
Departmental Reports Management Officer.

[FR Doc. 02-5525 Filed 3-7-02; 8:45 am]

BILLING CODE 4830-01-P